NATIONAL ARCHIVES AND RECORDS ADMINISTRATION

Information Security Oversight Office

[NARA-2017-053]

State, Local, Tribal, and Private Sector Policy Advisory Committee (SLTPS-PAC)

AGENCY: Information Security Oversight Office (ISOO), National Archives and Records Administration (NARA).

ACTION: Notice of Federal Advisory Committee meeting.

SUMMARY: In accordance with the Federal Advisory Committee Act, we announce an upcoming SLTPS-PAC committee meeting.

DATES: The meeting will be July 26, 2017, from 10:00 a.m. to 12:00 noon EDT.

ADDRESSES: Location—National Archives and Records Administration, 700 Pennsylvania Avenue NW., Jefferson Room; Washington, DC 20408.

FOR FURTHER INFORMATION CONTACT: Robert J. Skwirot, Senior Program Analyst, ISOO, by mail at National Archives Building, 700 Pennsylvania Avenue NW., Washington, DC 20408, by phone at (202) 357-5398, or by email at robert.skwirot@nara.gov. Contact ISOO at ISOO@nara.gov.

SUPPLEMENTARY INFORMATION: The purpose of this meeting is to discuss matters relating to the Classified National Security Information Program for state, local, tribal, and private sector entities.

Procedures: This meeting will be open to the public. However, due to space limitations and access procedures, you must submit the name and telephone number of people planning to attend. Please submit the information to ISOO no later than Wednesday, July 19, 2017. ISOO will provide additional instructions for entry to the meeting.

Patrice Little Murray,
Committee Management Officer.

[FR Doc. 2017-14036 Filed 7-3-17; 8:45 am]

BILLING CODE 7515-01-P